NUCLEAR REGULATORY COMMISSION

[NRC-2014-0232]

Applicability of ASME Code Case N-770-1, as Conditioned by Federal Regulation, to Branch Connection Butt Welds

AGENCY: Nuclear Regulatory Commission.

ACTION: Draft regulatory issue summary; extension of comment period.

SUMMARY: On October 23, 2014, the U.S. Nuclear Regulatory Commission (NRC) solicited comments on draft regulatory issue summary (RIS) 2014-XX. The purpose of this draft RIS is to inform addressees about reactor coolant system Alloy 82/182 branch connection dissimilar metal nozzle welds that may be of a butt weld configuration and therefore require inspection under the NRC's regulations. The public comment period was originally scheduled to close on December 8, 2014. The NRC has decided to extend the public comment period to allow more time for members of the public to develop and submit their comments.

DATES: The comment period in the notice published on October 23, 2014 (79 FR 63446), is extended. Comments should be filed no later than December 22, 2014. Comments received after this date will be considered if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2014-0232. Address questions about NRC dockets to Carol Gallagher; telephone: 301-287-3422; email: Carol.Gallagher@nrc.gov. For technical questions, contact the individuals listed in the FOR FURTHER INFORMATION CONTACT section of this document.

• Mail comments to: Cindy Bladey, Office of Administration, Mail Stop: 3WFN, 06-44M, U.S. Nuclear Regulatory Commission, Washington, DC 20555-0001.

For additional direction on obtaining information and submitting comments, see “Obtaining Information and Submitting Comments” in the SUPPLEMENTARY INFORMATION section of this document.

FOR FURTHER INFORMATION CONTACT: Tanya Mensah, telephone: 301-415-3610, email: Tanya.Mensah@nrc.gov; or Jay Collins, telephone: 301-415-4038, email: Jay.Collins@nrc.gov. Both are of the Office of Nuclear Reactor Regulation, U.S. Nuclear Regulatory Commission, Washington, DC 20555-0001.

SUPPLEMENTARY INFORMATION:

I. Obtaining Information and Submitting Comments

I. Obtaining Information

Please refer to Docket ID NRC-2014-0232 when contacting the NRC about the availability of information for this action. You may obtain publicly-available information related to this action by the following methods:

• Federal Rulemaking Web site: Go to http://www.regulations.gov and search for Docket ID NRC-2014-0232.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft RIS is available in ADAMS under Accession No. ML14196A065.

• NRC's PDR: You may examine and purchase copies of public documents at the NRC's PDR, Room O1-F21, One White Flint North, 11555 Rockville Pike, Rockville, Maryland 20852.

B. Submitting Comments

Please include Docket ID NRC-2014-0232 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On October 23, 2014, the NRC published for comment draft RIS 2014-XX. The purpose of draft RIS 2014-XX, “Applicability of ASME Code Case N-770-1 As Conditioned In 10 CFR [Title 10 of the Code of Federal Regulations] 50.55a, `Codes and Standards,' To Branch Connection Butt Welds,” is to inform addressees about reactor coolant system Alloy 82/182 branch connection dissimilar metal nozzle welds that may be of a butt weld configuration and therefore require inspection under 10 CFR 50.55a(g)(6)(ii)(F). The RIS, if issued in final form, would be used by all holders of an operating license or construction permit for a pressurized water nuclear power reactor under 10 CFR part 50, “Domestic Licensing of Production and Utilization Facilities,” except those who have permanently ceased operations and have certified that fuel has been permanently removed from the reactor vessel. The draft RIS explains that these entities should review this information for applicability to their Alloy 600 management plan to ensure all applicable butt welds are being inspected.

The public comment period was originally scheduled to close on December 8, 2014. The NRC has decided to extend the public comment period to allow more time for members of the public to submit their comments. The deadline for submitting comments is extended to December 22, 2014.

Dated at Rockville, Maryland, this 24th day of November 2014.
For the Nuclear Regulatory Commission.
Sheldon D. Stuchell,
Chief, Generic Communications Branch, Division of Policy and Rulemaking, Office of Nuclear Reactor Regulation.

[FR Doc. 2014-28122 Filed 11-28-14; 8:45 am]

BILLING CODE 7590-01-P